DEPARTMENT OF THE INTERIOR

Bureau of Reclamation

Equus Beds Division of the Wichita Project; Wichita, KS

AGENCY: Bureau of Reclamation, Interior.

ACTION: Notice of Intent To Prepare an Environmental Impact Statement (EIS).

SUMMARY: Pursuant to section 102(2)(C) of the National Environmental Policy Act of 1969, the Bureau of Reclamation (Reclamation) proposes to prepare an EIS on the Equus Beds Aquifer Recharge and Recovery Component of the `Integrated Local Water Supply Plan, Wichita, Kansas' (referred to as the ‘Equus Beds Division’). The purpose of the Equus Beds Division is to provide a reliable supply of potable water to meet the maximum daily demand within the projected metropolitan area of Wichita, Kansas, through 2050 while protecting the Equus Beds aquifer's water quality. The proposed action would include the diversion of 100 million gallons per day (MGD) of above base flow water from the Little Arkansas River into the Equus Beds aquifer. The proposed action would involve adding a new point of diversion with a proposed new water right to be held by the City of Wichita.

DATES: A public scoping notice will be sent out to all interested parties to assist in identifying the significant environmental issues related to the proposed action. Written comments will be accepted through March 31, 2008.

ADDRESSES: Comments and requests to be added to the mailing list may be submitted to Bureau of Reclamation, Oklahoma-Texas Area Office, Attention: Charles Webster, Environmental Protection Specialist, 5924 NW 2nd Street, Suite 200, Oklahoma City, Oklahoma 73127-6514.

FOR FURTHER INFORMATION CONTACT: Charles Webster, Environmental Protection Specialist, Telephone: (405) 470-4831. TTY users may dial 711 to obtain a toll free TTY relay.

SUPPLEMENTARY INFORMATION: Reclamation has been authorized to assist in the funding of the Equus Beds Division under the authority of Public Law 109-299 (October 5, 2006). Public Law 109-299 states: “The Secretary of the Interior may assist in the funding and implementation of the Equus Beds Aquifer Recharge and Recovery Component which is a part of the ‘Integrated Local Water Supply Plan, Wichita, Kansas' (referred to in this section as the ‘Equus Beds Division’) * * * Before obligating funds for design or construction under this section, the Secretary of the Interior shall work cooperatively with the City of Wichita, Kansas, to use, to the extent possible, plans, designs, and engineering and environmental analyses that have already been prepared by the City for the Equus Beds Division. The Secretary of the Interior shall assure that such information is used consistent with applicable Federal laws and regulations.”

The City of Wichita has historically relied on the Equus Beds aquifer as a major source of water. In addition to the City, other agricultural and industrial users also depend on the aquifer. Over the years, this use has exceeded recharge and has resulted in a severe drop in the water table which has led to saltwater intrusion into the Equus Beds aquifer. The City of Wichita began using more surface water to meet water demands in an effort to slow the saltwater intrusion. While this change has slowed the saltwater intrusion into the Equus Beds aquifer, it has not completely stopped it and the water quality of the aquifer continues to be degraded. In an effort to recharge the aquifer to prevent further water quality degradation and provide a large volume of stored groundwater for future use during drought, the City of Wichita is developing the Equus Beds Aquifer Recharge and Recovery Component of the Integrated Local Water Supply Plan.

If you wish to comment, you may mail us your comments as indicated under the Addresses section. Before including your name, address, phone number, e-mail address, or other personal identifying information in your comment, you should be aware that your entire comment including your personal identifying information may be made publicly available at any time. While you can ask us in your comment to withhold your personal identifying information from public review, we cannot guarantee that we will be able to do so.

Dated: February 15, 2008.
Donald E. Moomaw,
Assistant Regional Director, Great Plains Region.

[FR Doc. E8-3530 Filed 2-28-08; 8:45 am]

BILLING CODE 4310-MN-P